DEPARTMENT OF EDUCATION

Impact Aid Program; Notice Reopening the Application Deadline Date for Certain Impact Aid Fiscal Year 2010 Section 8002 and Section 8003 Grants

Catalog of Federal Domestic Assistance (CFDA) Number: 84.041.

SUMMARY: The Secretary reopens the application deadline date for the submission of e-Applications for certain Impact Aid fiscal year (FY) 2010 section 8002 and section 8003 grants until February 20, 2009. Impact Aid regulations at 34 CFR 222.3 specify that the annual application deadline is January 31. The Secretary takes this action to allow more time for the preparation and submission of applications only by potential applicants that were adversely affected by severe inclement weather conditions in their areas during the week before the original deadline.

DATES: The new deadline date for affected applicants to submit applications is:

Deadline for Transmittal of Applications: February 20, 2009.

State educational agencies (SEAs) wishing to comment on section 8002 or section 8003 applications filed by affected local educational agencies (LEAs) must do so by March 9, 2009.

Late Applications: The Secretary will accept and approve for payment any otherwise approvable application that is received on or before the 60th calendar day after February 20, which is April 21, 2009; however, any affected applicant submitting an otherwise approvable late application will have its payment reduced in accordance with section 8005(d)(2) of the Elementary and Secondary Education Act of 1965, as amended (ESEA), 20 U.S.C. 7705(d)(2), by 10 percent of the amount it would have received had its application been filed by February 20, 2009.

SUPPLEMENTARY INFORMATION: Under this reopened deadline, we will not accept applications from eligible applicants that submitted their FY 2010 section 8002 and section 8003 applications to the Department before the original deadline date of February 2 (first business day after January 31, 2009), 4:30:00 p.m., Washington, DC time.

If you are an affected section 8002 and section 8003 applicant submitting an application under the reopened deadline announced in this notice, you must provide a brief explanation with your application regarding how weather conditions limited your ability to submit your application by the initial deadline. You should also be prepared to provide appropriate supporting documentation, if requested.

FOR FURTHER INFORMATION CONTACT: Marilyn Hall, Impact Aid Program, U.S. Department of Education, 400 Maryland Avenue, SW., Washington, DC 20202-6244. Telephone: (202) 260-3858. If you use a telecommunications device for the deaf (TDD), call the Federal Relay Service (FRS), toll free, at 1-800-877-8339 between 8 a.m. and 8 p.m., Eastern time, Monday through Friday.

Submission of Applications Through the e-Grants System

Applications for section 8002 and section 8003 grants must be submitted electronically through the Department's e-Grants system, accessible through the e-Grants portal page at: http://e-grants.ed.gov. We will reject your application if you submit it in paper format.

While completing your electronic application, you will be entering data online that will be saved into a database. You may not e-mail an electronic copy of a grant application to us.

Please note the following:

• You must complete the electronic submission of your grant application by 4:30 p.m., Washington, DC time, on the application deadline date. We strongly recommend that you do not wait until the application deadline date to begin the application process.

• The regular hours of operation of the e-Grants Web site are 6 a.m. Monday until 7 p.m. Wednesday; and 6 a.m. Thursday until 8 p.m. Sunday, Washington, DC time. Please note that the system is unavailable Sundays after 8 p.m., and between 7 p.m. on Wednesdays and 6 a.m. on Thursdays, Washington, DC time, for maintenance. Any modifications to these hours are posted on the e-Grants Web site.

• You must submit all documents, including all necessary assurances and certifications, electronically.

• You must e-mail or fax to the Impact Aid Program office all pages of the application requiring a signature, on or before the third business day following the deadline specified earlier in this section. You must also include your explanation related to weather conditions specified earlier with this same e-mail or fax transmission. An application is timely filed if the Impact Aid Program receives the electronic application on or before 4:30 p.m. on the application deadline date, and the signature pages are received by fax or e-mail on or before the third business day following the application deadline date. The third business day following February 20 is February 25, 2009. If you choose to fax the signature pages, the Impact Aid Program fax number is 1-866-799-1272. Keep your fax receipt as proof of successful submission. If you choose to scan your signature pages to a PDF document, attach the PDF file to an e-mail message and send it to Impact.Aid@ed.gov. Request a receipt for the e-mail as confirmation of timely submission.

• After you electronically submit your application, you will receive an automatic acknowledgment that will include a PR/Award number (an identifying number unique to your application). The Department will send a second notification to you by e-mail after the application is logged into the Impact Aid System. This second notification indicates that the Department has received your e-application and the required signature pages by fax or e-mail.

In addition, you must forward a complete copy of the application to your SEA at the same time you submit it to the U.S. Department of Education. An “SEA Transmittal Form” is included with the application package for this purpose.

Application Deadline Date and Late Payment Deadline Date Extensions in Case of Technical Issues with the e-Grants.ed.gov System:

If you are prevented from electronically submitting your application on the application deadline date (February 20, 2009) or the late payment deadline date (April 21, 2009), because the e-Application system is unavailable, we will grant you an extension of one business day to enable you to transmit your application electronically, by mail, or by hand delivery. We will grant this extension if—

(1) You are a registered user of e-Application and you have initiated an electronic application for this grant; and

(2)(a) The e-Application system is unavailable for 60 minutes or more between the hours of 8:30 a.m. and 3:30 p.m., Washington, DC time, on the application deadline date or the late payment deadline date; or

(b) The e-Application system is unavailable for any period of time between 3:30 p.m. and 4:30 p.m., Washington, DC time, on the application deadline date or the late payment deadline date.

We must acknowledge and confirm these periods of unavailability before granting you an extension. To request this extension or to confirm our acknowledgment of any system unavailability, you may contact either (1) the person listed elsewhere in this notice under FOR FURTHER INFORMATION CONTACT or (2) the e-Grants help desk at 1-888-336-8930. If the e-Application system is unavailable due to technical problems with the system and therefore the application deadline is extended, an e-mail will be sent to all registered users who have initiated an e-Application. Extensions referred to in this section apply only to the unavailability of the Department's e-Application system.

Waiver of Rulemaking

34 CFR 222.3, which establishes the annual January 31 Impact Aid application deadline, is currently in effect. However, applicants may not have had sufficient time to gather data and comply with the annual deadline because they were adversely affected by severe weather conditions. Because this amendment makes a procedural change for this year's affected applications only as a result of unique circumstances, proposed rulemaking is not required under 5 U.S.C. 553(b)(A). In addition, the Secretary has determined under 5 U.S.C. 553(b)(B) that proposed rulemaking on this one-time suspension of the regulatory deadline date is impracticable, unnecessary, and contrary to the public interest.

Program Authority: 20 U.S.C. 7702, 7703, 7705.

Delegation of Authority: The Secretary of Education has delegated authority to Joseph Conaty, Director, Academic Improvement and Teacher Quality Programs for the Office of Elementary and Secondary Education to perform the functions of the Assistant Secretary for Elementary and Secondary Education.

Dated: February 13, 2009.
Joseph C. Conaty,
Director, Academic Improvement and Teacher Quality Programs.

[FR Doc. E9-3535 Filed 2-18-09; 8:45 am]

BILLING CODE 4000-01-P